DEPARTMENT OF TRANSPORTATION

Maritime Administration

[Docket No. MARAD-2025-0095]

Request for Comments on the Renewal of a Previously Approved Collection: Application for Waiver of the Coastwise Trade Laws for Small Passenger Vessels

AGENCY: Maritime Administration, DOT.

ACTION: Notice.

SUMMARY: The Maritime Administration (MARAD) invites public comments on its intention to request approval from the Office of Management and Budget (OMB) to renew an information collection in accordance with the Paperwork Reduction Act of 1995. The proposed collection OMB 2133-0529 (Application for Waiver of the Coastwise Trade Laws for Small Passenger Vessels) is used to identify the effect of potential foreign-built small passenger vessel coastwise operations on U.S. vessel builders and coastwise trade businesses. Since the last renewal there was an increase in the total respondents, responses, burden hours and cost to respondents. We are required to publish this notice in the Federal Register to obtain comments from the public and affected agencies.

DATES: Comments must be submitted on or before August 8, 2025.

ADDRESSES: You may submit comments identified by Docket No. MARAD-2025-0095 through one of the following methods:

• Federal eRulemaking Portal: www.regulations.gov. Search using the above DOT docket number and follow the online instructions for submitting comments.

• Mail or Hand Delivery: Docket Management Facility, U.S. Department of Transportation, 1200 New Jersey Avenue SE, West Building, Room W12-140, Washington, DC 20590, between 9 a.m. and 5 p.m., Monday through Friday, except on Federal holidays.

Instructions: All submissions must include the agency name and docket number for this rulemaking.

Note: All comments received will be posted without change to www.regulations.gov including any personal information provided.

Comments are invited on: (a) whether the proposed collection of information is reasonable for the Department's performance; (b) the accuracy of the estimated burden; (c) ways for the Department to enhance the quality, utility, and clarity of the information collection; and (d) ways that the burden could be lessened without reducing the quality of the collected information. The agency will summarize and/or include your comments in the request for OMB's clearance of this information collection.

FOR FURTHER INFORMATION CONTACT: Patricia Hagerty, 202-366-0903, Office of Cargo and Commercial Sealift, Maritime Administration, U.S. Department of Transportation, 1200 New Jersey Avenue SE, Washington, DC 20590, Email: smallvessels@dot.gov.

SUPPLEMENTARY INFORMATION:

Title: Application for Waiver of the Coastwise Trade Laws for Small Passenger Vessels.

OMB Control Number: 2133-0529.

Type of Request: Extension without change of a currently approved collection.

Abstract: Owners of foreign-built small passenger vessels must request an eligibility determination from the Maritime Administration (MARAD) to engage in coastwise trade. This collection of information provide justification for a positive determination and a uniform mean for MARAD to obtain relevant information to perform its administrative function in accordance with statute.

Respondents: Owners and prospective owners, vessel agents, brokers and charterers of U.S. built vessels; was not U.S. built and is at least 3 years old; or if U.S. rebuilt, was rebuilt in the U.S. or outside of the United States at least 3 years before a coastwise endorsement under 46 U.S.C. (b) would take effect.

Affected Public: U.S. vessel builders and owners of U.S. passenger vessels.

Estimated Number of Respondents: 200.

Estimated Number of Responses: 200.

Estimated Hours per Response: 1.

Annual Estimated Total Annual Burden Hours: 200.

Frequency of Response: Annually.

(Authority: The Paperwork Reduction Act of 1995; 44 U.S.C. Chapter 35, as amended; and 49 CFR 1.49.)

By Order of the Maritime Administration.
T. Mitchell Hudson, Jr.,
Secretary, Maritime Administration.

[FR Doc. 2025-10405 Filed 6-6-25; 8:45 am]

BILLING CODE 4910-81-P